DEPARTMENT OF DEFENSE

Office of the Secretary

DAU Industry Day: “Affordability, Efficiency, and the Industrial Base”

AGENCY: Defense Acquisition University (DAU), DoD.

ACTION: Event notice.

SUMMARY: Mrs. Katrina McFarland, President of Defense Acquisition University, will host a forum with industry to discuss affordability, efficiency, and the industrial base. After a variety of presenters, the session will conclude with Mr. Frank Kendall, Acting Under Secretary of Defense for Acquisition, Technology and Logistics, leading a panel to discuss how we will achieve affordable, efficient programs in this time of fiscal austerity, while maintaining a healthy industrial base. Following the plenary session, each company will have the opportunity to sign up for an individual, non-attribution, 20-minute session with a DAU faculty member. DAU plans to incorporate feedback into changes to the Business Acumen curriculum. The name of the event is DAU Industry Day: “Affordability, Efficiency, and the Industrial Base”.

DATES: Tuesday, May 1, 2012, from 8:30 a.m.-2 p.m.

ADDRESSES: Howell Auditorium, Building 226, Defense Acquisition University, 9820 Belvoir Road, Fort Belvoir, VA 22060.

FOR FURTHER INFORMATION CONTACT: Christen Goulding, Protocol Director, DAU. Phone: 703-805-5134. Fax: 703-805-5940. Email: christen.goulding@dau.mil.

SUPPLEMENTARY INFORMATION: Purpose of the Event: The purpose of this event is for members of government and industry to discuss affordability, efficiency, and the industrial base. It also offers industry the opportunity to offer input into DAU Business Acumen curriculum.

Agenda

8:30 a.m. Check-in.

9 a.m. Welcome and Introduction.

9:15 a.m. Affordable Programs.

9:55 a.m. Efficiency.

10:25 a.m. Industrial Base.

11 a.m. Industrial Base Policy.

11:30 a.m. Panel Discussion.

12 p.m. Breakout Session One.

12:30 p.m. Breakout Session Two.

1 p.m. Breakout Session Three.

1:30 p.m. Breakout Session Four.

Public's Accessibility to the Event: All attendees must be pre-registered to attend the event. Persons desiring to attend can register online at https://crs.dau.mil/industry/Default.asp.

Event Point of Contact: Mr. Bill Parker, 703-805-4979.

Dated: April 2, 2012.
Aaron Siegel,
Alternate OSD Federal Register Liaison Officer, Department of Defense.

[FR Doc. 2012-8188 Filed 4-4-12; 8:45 am]

BILLING CODE 5001-06-P